DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (https://www.treasury.gov/ofac).

Notice of OFAC Actions

On August 6, 2020, OFAC determined that the property and interests in property subject to U.S. jurisdiction of the following persons are blocked pursuant to the relevant sanctions authority listed below.

Individuals

1. AL-WADI, Faysal (a.k.a. WADI, Faisal Mohamed M), Malta; DOB 15 Dec 1978; alt. DOB 15 Dec 1976; POB Libya; nationality Libya; Gender Male; National ID No. 037956A (Malta) (individual) [LIBYA3].

Designated pursuant to section 1(a)(i)(A) of Executive Order 13726 of April 19, 2016, “Blocking Property and Suspending Entry Into the United States of Persons Contributing to the Situation in Libya,” 81 FR 23559, 3 CFR, 2017 Comp., p. 454, (E.O. 13726) for being responsible for or complicit in, or having engaged in, directly or indirectly, actions or policies that threaten the peace, security, or stability of Libya, including through the supply of arms or related materiel.

Designated pursuant to section 1(a)(iv) of E.O. 13726 for being involved in, or having been involved in, the illicit exploitation of crude oil or any other natural resources in Libya, including the illicit production, refining, brokering, sale, purchase, or export of Libyan oil.

2. WADI, Musbah Mohamad M, Malta; Cyprus; Omar Almohar, Tripoli, Libya; DOB 12 Jul 1993; POB Libya; nationality Libya; Gender Male; Passport 524945 (Libya) (individual) [LIBYA3].

Designated pursuant to section 1(a)(vi) of E.O. 13726 for having materially assisted, sponsored, or provided financial, material, logistical, or technological support for, or goods or services in support of, actions or policies that threaten the peace, security, or stability of Libya, including through the supply of arms or related materiel.

3. MUSBAH, Nourddin Milood M, Malta; Cyprus; Ben Ashoor, Tripoli, Libya; DOB 02 Sep 1974; nationality Libya; Gender Male; Passport 998635 (Libya) (individual) [LIBYA3].

Designated pursuant to section 1(a)(vi) of E.O. 13726 for having materially assisted, sponsored, or provided financial, material, logistical, or technological support for, or goods or services in support of, actions or policies that threaten the peace, security, or stability of Libya, including through the supply of arms or related materiel.

Entity

1. ALWEFAQ LTD, 15 Grognet Street, Mosta MST 3613, Malta; 22 Freedom Street, Famagusta, Cyprus; Registration Number C 68939 (Malta) [LIBYA3] (Linked To: MUSBAH, Nourddin Milood M; Linked To: WADI, Musbah Mohamad M).

Designated pursuant to section 1(a)(vii) of E.O. 13726 for being owned or controlled by, or having acted or purported to act for or on behalf of, Musbah Mohamad M Wadi, a person whose property and interests in property are blocked pursuant to E.O. 13726.

Designated pursuant to section 1(a)(vii) of E.O. 13726 for being owned or controlled by, or having acted or purported to act for or on behalf of, Nourddin Milood M Musbah, a person whose property and interests in property are blocked pursuant to E.O. 13726.

Vessel

1. MARAYA (f.k.a. MED PATRON) Palletized Cargo Ship Samoa flag; Vessel Registration Identification IMO 7514517 (vessel) [LIBYA3] (Linked To: ALWEFAQ LTD).

Identified pursuant to E.O. 13726 as property in which Alwefaq Ltd, an entity whose property and interests in property are blocked pursuant to E.O. 13726, has an interest.

Dated: August 6, 2020.
Andrea M. Gacki,
Director, Office of Foreign Assets Control, U.S. Department of the Treasury.

[FR Doc. 2020-17497 Filed 8-10-20; 8:45 am]

BILLING CODE 4810-AL-P